DEPARTMENT OF TRANSPORTATION

Federal Highway Administration

Notice of Final Federal Agency Actions on Proposed Highway Projects in Texas

AGENCY: Federal Highway Administration (FHWA), U.S. Department of Transportation.

ACTION: Notice of limitation on claims for judicial review.

SUMMARY: This notice announces actions taken by the Texas Department of Transportation (TxDOT) and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is September 12, 2025. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8 a.m.-5 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (section 404, section 401, section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 11593 Protection and Enhancement of Cultural Resources; E.O. 13007 Indian Sacred Sites; E.O. 13287 Preserve America; E.O. 13175 Consultation and Coordination with Indian Tribal Governments; E.O. 13112 Invasive Species. (Catalog of Federal Domestic Assistance Program Number 20.205, Highway Planning and Construction.)

The projects subject to this notice are:

1. US 290 at Greenhouse Road, Harris County, Texas. This project will include intersection improvements at US 290 and Greenhouse Road. Greenhouse Road will be extended from Mound Road to Skinner Road and will include a new underpass beneath the Union Pacific Railroad(UPRR). The facility will typically consist of three lanes each way, bicycle and pedestrian accommodations, and drainage facilities. The actions by TxDOT and Federal agencies and the laws under which such actions were taken are described in the Categorical Exclusion Determination issued on December 10, 2024, and other documents in the TxDOT project file. The Categorical Exclusion Determination and other documents in the TxDOT project file are available by contacting the TxDOT Houston District Office located at 7600 Washington Avenue, Houston, TX 77007; telephone: (713) 802-5000.

2. US 84 from FM 1695 to SS 298, McLennan County, Texas. This project involves widening from a four-lane roadway to six lanes with shoulders along US 84 between FM 1695 to SS 298. The project area goes through commercial and residential areas in Woodway and Waco. Most of US 84 will be 6 lanes with shoulders (3 in each direction) separated by a concrete barrier in the center median. The project is 2.5 miles in length. Lanes will be 12 feet wide with 10-foot shoulders and auxiliary lanes. The project includes new bridges at FM 1695, Texas Central Parkway, and SH 6. The south side of the right-of-way will have a 10-foot shared use path, while the north side will be a 6-foot sidewalk. At the intersection of US 84 and SH 6 there will be two direct connectors constructed; one connection will connect SH 6 northbound to US 84 west bound, and the other connection will connect US 84 eastbound to SH 6 southbound. The direct connectors will be a single 12-foot lane with 4-foot to 8-foot shoulders. The actions by TxDOT and Federal agencies and the laws under which such actions were taken are described in the Categorical Exclusion Determination issued on December 10, 2024, and other documents in the TxDOT project file. The Categorical Exclusion Determination and other documents in the TxDOT project file are available by contacting the TxDOT Waco District Office at 100 South Loop Drive, Waco, TX 78704; telephone: (254) 867-2700.

3. IH 30 from 0.34 mile west of Monty Stratton Parkway to approximately 0.23 mile east of FM 513, Hunt County, Texas. The project will add an eastbound and westbound main lane along IH 30 from Monty Stratton Parkway to FM 513. The eastbound and westbound main lane additions will increase the number of main lanes to three 12-foot-wide travel lanes in each direction and will widen the shoulders to 10 feet in width on both the inside and outside shoulders. Frontage roads will be converted to one-way frontage roads, with westbound frontage roads along the north side of the roadway and eastbound frontage roads along the south side of the roadway. The project also includes exit and entrance ramp modifications, including ramp reversals from diamond to X ramp configurations. Access ramps will remain controlled and typically at-grade. The project will also include work on several cross streets including Monty Stratton Parkway, US 69 (Joe Ramsey Blvd. N), BUS 69 (Moulton St.), Division St., SH 302, Lamar St., SH 24, and FM 513. The project length is 12.43 miles. The actions by TxDOT and Federal agencies and the laws under which such actions were taken are described in the Categorical Exclusion Determination issued on January 30, 2025, and other documents in the TxDOT project file. The Categorical Exclusion Determination and other documents in the TxDOT project file are available by contacting the TxDOT Paris District Office at 1365 N. Main Street, Paris, TX 75460; telephone: (903) 737-9206.

4. FM 3097 from Tubbs Road to FM 549, Rockwall County, Texas. This project will consist of widening to a four-lane divided urban roadway. It includes two travel lanes in each direction (two 12-foot lanes with 2-foot shoulders, 10-foot shared use path, and 4-foot buffer). A raised concrete median will separate the eastbound and westbound lanes and will vary from 6 to 18 feet. This project is approximately 1.86 miles in length. The actions by TxDOT and Federal agencies and the laws under which such actions were taken are described in the Categorical Exclusion Determination issued on January 30, 2025, and other documents in the TxDOT project file. The Categorical Exclusion Determination and other documents in the TxDOT project file are available by contacting the TxDOT Dallas District Office at 4777 E. Highway 80, Mesquite, TX 75150; telephone: (214) 320-4480.

5. FM 1187 from Chisholm Trail Parkway to McCart Avenue, Tarrant County, Texas. This project will reconstruct and widen FM 1187, converting it from an existing two-lane roadway with a center turn lane to a four-lane roadway with a curbed center median. Bicycle and pedestrian improvements, including a 10-ft-wide shared-use path on both sides of the roadway, and curb and gutter to facilitate drainage are proposed. The total project length is approximately 3 miles. The actions by TxDOT and Federal agencies and the laws under which such actions were taken are described in the Categorical Exclusion Determination issued on February 10, 2025, and other documents in the TxDOT project file. The Categorical Exclusion Determination and other documents in the TxDOT project file are available by contacting the TxDOT Fort Worth District Office at 2501 S W Loop 820 Fort Worth, TX 76133; telephone: (817) 370-6744.

6. US 385 at South Loop 338, Ector County, Texas. The project will construct an overpass at the intersection of US 385 and South Loop 338 (Loop 338) on the south side of Odessa. Loop 338 will be widened from a two-lane, undivided highway to a four-lane, divided highway, with an overpass at US 385, so that Loop 338 will travel over US 385. Loop 338 will consist of two 12-foot main lanes, 4-foot inside shoulders, and 10-foot outside shoulders in each direction, separated by a varied-width grassy median, along with two sets of entrance and exit ramps. The Loop 338 at-grade intersection will consist of two 12-foot travel lanes in each direction on Loop 338, with 12- to 14-foot right-turn and u-turn lanes and 10-foot sidewalks. The project limits on Loop 338 are from 0.13 mile west of Fulton Drive to approximately 0.4 mile east of South Shani. On US 385, the project will add 12-foot right-turn or acceleration lanes to access Loop 338. In addition, 10-foot sidewalks will be constructed on both sides of the roadway. The project limits on US 385 are from FM 1882 to approximately 0.3 mile south of LP 338. The actions by TxDOT and Federal agencies and the laws under which such actions were taken are described in the Categorical Exclusion Determination issued on February 13, 2025, and other documents in the TxDOT project file. The Categorical Exclusion Determination and other documents in the TxDOT project file are available by contacting the TxDOT Odessa District Office at 3901 E. Highway 80, Odessa, Texas 79761; telephone: (432) 498-4697.

7. US 287 from east of SH 360 to west of Old Fort Worth Road, Ellis County, Texas. The proposed facility will construct new continuous frontage roads that will run parallel to the main lanes of US 287. The main lanes will be reconstructed and shifted to accommodate the newly constructed frontage roads. The proposed US 287 will be a divided 4-lane highway (2 lanes in each direction) with 2-lane frontage roads that run parallel to the main lanes (2 lanes in each direction). The US 287 main lanes will consist of 12-foot-wide travel lanes with an adjacent 10-foot-wide outside shoulder and an adjacent 4-footwide inside shoulder. A vegetated median that varies from 40-68-feet-wide will separate the north and south bound US 287 main lanes. This project is approximately 4.7 miles in length. The actions by TxDOT and Federal agencies and the laws under which such actions were taken are described in the Categorical Exclusion Determination issued on February 18, 2025, and other documents in the TxDOT project file. The Categorical Exclusion Determination and other documents in the TxDOT project file are available by contacting the TxDOT Dallas District Office at 4777 E. Highway 80, Mesquite, TX 75150; telephone: (214) 320-4480.

8. FM 971 from Gann Street to State Highway 130, Williamson County, Texas. The project will widen FM 971 from 2 to 4 lanes (two in each direction) divided by a 14-foot raised median, curb and gutter drainage with storm sewer and cross culverts, and a 10-foot shared-use path on both sides of the road. The project is 1.67 miles in length. The actions by TxDOT and Federal agencies and the laws under which such actions were taken are described in the Categorical Exclusion Determination issued on February 21, 2025, and other documents in the TxDOT project file. The Categorical Exclusion Determination and other documents in the TxDOT project file are available by contacting the TxDOT Austin District Office at 7901 North I-35, Austin, TX 78753; telephone: (512) 832-7000.

9. US 287/81 from Avondale-Haslet Rd to IH 35W, Tarrant County, Texas. The project will reconstruct the main lanes and add one inside main lane in each direction, construct new continuous one-way frontage roads, and convert existing two-way frontage roads to one-way frontage roads. The existing interchanges will also be reconstructed. Willow Springs Road will be reconstructed to cross under the US 81/US 287 main lanes, an interchange is proposed at Heritage Trace Parkway, and Wagley Robertson Road will be connected to the proposed frontage roads. Phase 1 of the project at Harmon Road and North Tarrant Parkway will construct frontage roads from north of Harmon Road to west of IH 35W. The project will include one northbound exit ramp to North Tarrant Parkway, and two southbound ramps to and from North Tarrant Parkway/Harmon Road. Bridges will be constructed at Harmon Road and North Tarrant Parkway, along with intersection signals. The total project length is approximately 7 miles. The actions by TxDOT and Federal agencies and the laws under which such actions were taken are described in the Categorical Exclusion Determination issued on February 26, 2025, and other documents in the TxDOT project file. The Categorical Exclusion Determination and other documents in the TxDOT project file are available by contacting the TxDOT Fort Worth District Office at 2501 S W Loop 820 Fort Worth, TX 76133; telephone: (817) 370-6744.

10. IH 10 from FM 155 to FM 2434, Colorado County, Texas. The project will extend approximately 12.3 miles from CR 250 (0.57 mile west of CR 240) in Weimar to 0.15 mile east of FM 2434 just west of Columbus. The project will add an additional eastbound and westbound main lane within the project limits. The project will also add one-way frontage roads throughout portions of the project limits and convert existing frontage roads to one-way traffic. Halfway between FM 2434 and CR 219 (Hatterman Lane), approximately 1,000ft of new roadway would be constructed to connect the proposed westbound frontage road to US 90. A new overpass will be constructed at CR 250 allowing CR 250 to cross over IH 10 and connect with new proposed frontage roads on the north side of IH 10. The overpass intersections at FM 155 and CR 219 will be flipped allowing IH 10 to cross over FM 155 and CR 219 rather than FM 155 and CR 219 crossing over IH 10. The actions by TxDOT and Federal agencies and the laws under which such actions were taken are described in the Categorical Exclusion Determination issued on February 26, 2025, and other documents in the TxDOT project file. The Categorical Exclusion Determination and other documents in the TxDOT project file are available by contacting the TxDOT Yoakum District Office at 403 Huck St., Yoakum, TX 77995; telephone: (361) 293-4300.

11. FM 565, from SH 99 to SH 146, Chambers County, Texas. This project will widen FM 565 from a two-lane roadway to four lanes. The project is 2.91 miles in length. Connections will be provided between the FM 565 frontage road and newly widened FM 565 at two separate locations between Ameriport Parkway and the UPRR. A new grade separation will be constructed at the UPRR, with FM 565 traveling over the railroad tracks. Immediately west of this intersection, FM 565 will join the existing alignment of FM 1405, which will be re-designated as FM 565 from this point to SH 146. A new intersection of the re-designated FM 565 with FM 1405 will be constructed approximately 0.5 miles east of SH 146. From here, a 0.5-mile-long extension of FM 1405 would travel along new location to join the existing FM 1405 to travel south. The project also includes changes to the existing FM 1405, which currently consists of one 12-foot travel lane in each direction with a 16-foot center left-turn lane and 10-foot shoulders. The proposed FM 1405 will consist of one 12-foot travel lane in each direction, a 16-foot raised median or center left-turn lane (depending on location), 10-foot shoulders, and a 2-foot curb offset between the inside travel lanes and raised median. Left- and right-turn lanes would be constructed at various intersections and cross-streets. The actions by TxDOT and Federal agencies and the laws under which such actions were taken are described in the Final EA, Finding of No Significant Impact (FONSI) issued on December 10, 2024, and other documents in the TxDOT project file. The EA, FONSI, and other documents in the TxDOT project file are available by contacting the TxDOT Beaumont District Office at 100 8350 Eastex Freeway, Beaumont, TX 77708; telephone: (409) 898-5745.

12. SL 335 Segment C-2 from FM 1719 to Echo Street and US 87 from south of Cherry Avenue to north of Hastings Avenue, Potter County, Texas. The project will reconstruct existing SL 335 as a controlled access, divided, four-lane facility with bicycle and pedestrian accommodations. The SL 335 proposed facility would consist of two 12-foot main lanes in each direction including 12-foot intermittent auxiliary lanes and 10-foot outside and 6-foot inside shoulders, and frontage roads. The project also includes improvements to US 87 to upgrade the existing interchange with SL 335 with a standard intersection, improved vertical clearance, and direct connectors. The project design would accommodate an ultimate six-lane section for both SL 335 and US 87. The total project length is approximately 7.5 miles (4.6 miles on SL 335, 2.9 miles on US 87). The actions by TxDOT and Federal agencies and the laws under which such actions were taken are described in the Final EA, the FONSI issued on January 27, 2025, and other documents in the TxDOT project file. The EA, FONSI, and other documents in the TxDOT project file are available by contacting the TxDOT Amarillo District Office at 5716 Canyon Drive, Amarillo, Texas 79110; telephone: (806) 356-3200.

13. RM 2243 from 183A to SW Bypass, Williamson County, Texas. The project will realign and widen the existing rural undivided Hero Way and RM 2243 roadways (one lane in each direction), from 183A to SW Bypass, into a divided controlled access freeway with two to three lanes in each direction and frontage roads (three lanes in each direction). The project will be phased for construction. The project is 7.7 miles in length. The actions by TxDOT and Federal agencies and the laws under which such actions were taken are described in the Final EA, the FONSI issued on February 26, 2025, and other documents in the TxDOT project file. The EA, FONSI, and other documents in the TxDOT project file are available by contacting the TxDOT Austin District Office at 7901 North I-35, Austin, TX 78753; telephone: (512) 832-7000.

Authority: 23 U.S.C. 139(l)(1).

Megan Dere,
Acting Director, Planning and Program Development, Federal Highway Administration.

[FR Doc. 2025-06363 Filed 4-14-25; 8:45 am]

BILLING CODE 4910-22-P